DEPARTMENT OF TRANSPORTATION

National Highway Traffic Safety Administration

49 CFR Part 541

[Docket No. NHTSA 2005-20278]

RIN 2127-AJ53

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2003 including theft rates for existing passenger motor vehicle lines manufactured in model year (MY) 2003. The preliminary theft data indicate that the vehicle theft rate for CY/MY 2003 vehicles (1.84 thefts per thousand vehicles) decreased by 26.1 percent from the theft rate for CY/MY 2002 vehicles (2.49 thefts per thousand vehicles).

Publication of these data fulfills NHTSA's statutory obligation to periodically obtain accurate and timely theft data, and publish the information for review and comment.

DATES: Comments must be submitted on or before May 2, 2005.

ADDRESSES: You may submit comments [identified by DOT Docket No. NHTSA-2005-20278 and or RIN number 2127-AJ53] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Ms. Deborah Mazyck, Office of International Policy, Fuel Economy and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2003 the most recent calendar year for which data are available.

In calculating the 2003 theft rates, NHTSA followed the same procedures it used in calculating the MY 2002 theft rates. (For 2002 theft data calculations, see 69 FR 53354, September 1, 2004). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources. The 2003 theft rate for each vehicle line was calculated by dividing the number of reported thefts of MY 2003 vehicles of that line stolen during calendar year 2003, by the total number of vehicles in that line manufactured for MY 2003, as reported by manufacturers to the Environmental Protection Agency.

The preliminary 2003 theft data show a decrease in the vehicle theft rate when compared to the theft rate experienced in CY/MY 2002. The preliminary theft rate for MY 2003 passenger vehicles stolen in calendar year 2003 decreased to 1.84 thefts per thousand vehicles produced, a decrease of 26.1 percent from the rate of 2.49 thefts per thousand vehicles experienced by MY 2002 vehicles in CY 2002. For MY 2003 vehicles, out of a total of 217 vehicle lines, 21 lines had a theft rate higher than 3.5826 per thousand vehicles, the established median theft rate for MYs 1990/1991 (See 59 FR 12400, March 16, 1994). Of the 21 vehicle lines with a theft rate higher than 3.5826, 18 are passenger car lines, 2 are multipurpose passenger vehicle lines, and one is a light-duty truck line.

In Table I, NHTSA has tentatively ranked each of the MY 2003 vehicle lines in descending order of theft rate. Public comment is sought on the accuracy of the data, including the data for the production volumes of individual vehicle lines.

Comments must not exceed 15 pages in length (49 CFR 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 33101, 33102 and 33104; delegation of authority at 49 CFR 1.50.

Preliminary Report of Theft Rates for Model Year 2003 Passenger Motor Vehicles Stolen in Calendar Year 2003
Manufacturer | Make/model (line) | Thefts 2003 | Production (Mfr's) 2003 | 2003 theft rate (per 1,000 vehicles produced)
1 DAIMLERCHRYSLER | DODGE STRATUS | 682 | 62,496 | 10.9127
2 DAIMLERCHRYSLER | DODGE INTREPID | 392 | 40,366 | 9.7111
3 MITSUBISHI | MONTERO | 94 | 13,604 | 6.9097
4 MITSUBISHI | DIAMANTE | 57 | 9,981 | 5.7109
5 TOYOTA | TUNDRA PICKUP | 162 | 28,981 | 5.5899
6 DAIMLERCHRYSLER | SEBRING | 180 | 35,599 | 5.0563
7 MITSUBISHI | MONTERO SPORT | 174 | 35,508 | 4.9003
8 MITSUBISHI | GALANT | 468 | 97,418 | 4.8040
9 JAGUAR | XJR | 4 | 845 | 4.7337
10 DAIMLERCHRYSLER | DODGE NEON | 590 | 127,902 | 4.6129
11 DAIMLERCHRYSLER | CHRYSLER SEBRING CONVERTIBLE | 61 | 13,337 | 4.5737
12 DAIMLERCHRYSLER | CHRYSLER CONCORDE | 61 | 13,690 | 4.4558
13 DAIMLERCHRYSLER | CHRYSLER 300M | 61 | 13,719 | 4.4464
14 SUZUKI | AERIO | 150 | 33,931 | 4.4207
15 FORD MOTOR CO | FORD MUSTANG | 598 | 143,823 | 4.1579
16 NISSAN | SENTRA | 293 | 71,734 | 4.0845
17 GENERAL MOTORS | OLDSMOBILE ALERO | 333 | 86,229 | 3.8618
18 MITSUBISHI | LANCER | 283 | 75,585 | 3.7441
19 JAGUAR | XK8 | 8 | 2,151 | 3.7192
20 VOLVO | S40 | 111 | 3,014 | 3.6496
21 MITSUBISHI | ECLIPSE | 333 | 92,062 | 3.6171
22 GENERAL MOTORS | PONTIAC GRAND PRIX | 249 | 70,395 | 3.5372
23 DAIMLERCHRYSLER | CHRYSLER VOYAGER VAN | 72 | 20,642 | 3.4880
24 NISSAN | MAXIMA | 211 | 62,537 | 3.3740
25 GENERAL MOTORS | CHEVROLET MONTE CARLO | 228 | 67,610 | 3.3723
26 BMW | M3 | 30 | 8,964 | 3.3467
27 GENERAL MOTORS | PONTIAC GRAND AM | 450 | 145,150 | 3.1002
28 FORD MOTOR CO. | LINCOLN LS | 72 | 23,472 | 3.0675
29 HONDA | S2000 | 24 | 7,8623 | 3.0527
30 SUZUKI | VITARA/GRAND | 108 | 35,437 | 3.0477
31 KIA MOTORS | OPTIMA | 70 | 23,340 | 2.9991
32 DAIMLERCHRYSLER | DODGE CARAVAN/GRAND CARAVAN | 725 | 248,733 | 2.9148
33 GENERAL MOTORS | CHEVROLET CAVALIER | 633 | 218,340 | 2.8991
34 SUBARU | IMPREZA | 67 | 23,333 | 2.8715
35 TOYOTA | ECHO | 101 | 35,276 | 2.8631
36 GENERAL MOTORS | CHEVROLET MALIBU | 507 | 179,565 | 2.8235
37 GENERAL MOTORS | CHEVROLET BLAZER S10/T10 | 152 | 54,165 | 2.8062
38 MERCEDES-BENZ | 215 (CL-CLASS) | 9 | 3,214 | 2.8002
39 BMW | M5 | 5 | 1,902 | 2.6288
40 NISSAN | ALTIMA | 591 | 225,388 | 2.6221
41 JAGUAR | XJ8 | 10 | 3,816 | 2.6205
42 VOLVO | C70 | 4 | 1,540 | 2.5974
43 GENERAL MOTORS | BUICK REGAL | 89 | 35,374 | 2.5160
44 KIA MOTORS | SPECTRA | 176 | 71,249 | 2.4702
45 GENERAL MOTORS | BUICK CENTURY | 363 | 148,506 | 2.4443
46 JAGUAR | S-TYPE | 55 | 22,608 | 2.4328
47 TOYOTA | LEXUS SC | 26 | 10,800 | 2.4074
48 FORD MOTOR CO. | LINCOLN TOWN CAR | 180 | 75,624 | 2.3802
49 TOYOTA | COROLLA | 786 | 330,244 | 2.3801
50 FORD MOTOR CO. | FORD FOCUS | 610 | 257,453 | 2.3694
51 HYUNDAI | ACCENT | 120 | 51,425 | 2.3335
52 NISSAN | 350Z | 92 | 39,448 | 2.3322
53 TOYOTA | CELICA | 42 | 18,062 | 2.3253
54 GENERAL MOTORS | SATURN LS | 164 | 71,082 | 2.3072
55 DAIMLERCHRYSLER | CHRYSLER PT CRUISER | 272 | 118,798 | 2.2896
56 HONDA | ACURA 3.2 CL | 37 | 16,327 | 2.2662
57 FORD MOTOR CO. | FORD TAURUS | 757 | 334,329 | 2.2642
58 GENERAL MOTORS | PONTIAC SUNFIRE | 85 | 37,813 | 2.2479
59 BMW | 7 | 46 | 21,387 | 2.1508
60 HYUNDAI | TIBURON | 87 | 40,830 | 2.1308
61 TOYOTA | LEXUS IS | 30 | 14,445 | 2.0768
62 FORD MOTOR CO. | MERCURY MOUNTAINEER | 95 | 45,950 | 2.0675
63 GENERAL MOTORS | CHEVROLET CORVETTE | 68 | 33,118 | 2.0533
64 GENERAL MOTORS | CADILLAC DEVILLE | 157 | 77,703 | 2.0205
65 HYUNDAI | XG | 18 | 8,942 | 2.0130
66 HONDA | ACURA RSX | 51 | 26,035 | 1.9589
67 KIA MOTORS | RIO | 86 | 44,120 | 1.9492
68 MAZDA | PROTÉGÉ | 164 | 84,404 | 1.9430
69 GENERAL MOTORS | CADILLAC SEVILLE | 36 | 18,627 | 1.9327
70 GENERAL MOTORS | PONTIAC BONNEVILLE | 67 | 34,675 | 1.9322
71 MITSUBISHI | OUTLANDER | 93 | 48,273 | 1.9265
72 FORD MOTOR CO. | MERCURY SABLE | 123 | 64,477 | 1.9077
73 DAIMLERCHRYSLER | JEEP LIBERTY | 331 | 177,461 | 1.8652
74 NISSAN | INFINITI QX4 | 14 | 7,766 | 1.8027
75 MERCEDES-BENZ | 220 (S-CLASS) | 37 | 20,679 | 1.7893
76 TOYOTA | MATRIX | 153 | 87,440 | 1.7498
77 DAIMLERCHRYSLER | CHRYSLER TOWN & COUNTRY | 216 | 123,575 | 1.7479
78 GENERAL MOTORS | GMC SONOMA PICKUP | 71 | 41,164 | 1.7248
79 HYUNDAI | SONATA | 129 | 77,468 | 1.6652
80 DAIMLERCHRYSLER | JEEP GRAND CHEROKEE | 190 | 114,736 | 1.6560
81 MERCEDES-BENZ | 129 (SL-CLASS) | 34 | 20,685 | 1.6437
82 GENERAL MOTORS | CHEVROLET IMPALA | 404 | 248,078 | 1.6285
83 FORD MOTOR CO. | FORD EXPLORER | 537 | 332,158 | 1.6167
84 HYUNDAI | ELANTRA | 210 | 130,031 | 1.6150
85 VOLVO | S60 | 31 | 19,532 | 1.5871
86 FORD MOTOR CO. | FORD ESCAPE | 240 | 151,770 | 1.5813
87 AUDI | A8 | 1 | 643 | 1.5552
88 NISSAN | FRONTIER PICKUP | 105 | 68,372 | 1.5357
89 VOLVO | S80 | 12 | 7,927 | 1.5138
90 TOYOTA | CAMRY/SOLARA | 617 | 408,093 | 1.5119
91 GENERAL MOTORS | PONTIAC AZTEK | 44 | 29,564 | 1.4883
92 KIA MOTORS | SORENTO | 63 | 42,837 | 1.4707
93 FORD MOTOR CO. | FORD RANGER PICKUP | 331 | 226,132 | 1.4637
94 DAIMLERCHRYSLER | JEEP WRANGLER | 94 | 64,343 | 1.4609
95 DAIMLERCHRYSLER | DODGE DAKOTA PICKUP | 31 | 21,582 | 1.4364
96 FORD MOTOR CO. | FORD CROWN VICTORIA | 58 | 41,637 | 1.3930
97 NISSAN | INFINITI I35 | 24 | 17,334 | 1.3846
98 HONDA | ACURA 3.5 RL | 4 | 2,903 | 1.3779
99 TOYOTA | LEXUS GS | 20 | 14,555 | 1.3741
100 GENERAL MOTORS | CHEVROLET S10/T10 PICKUP | 218 | 159,920 | 1.3632
101 NISSAN | INFINITI G35 | 111 | 81,505 | 1.3619
102 TOYOTA | TACOMA PICKUP | 209 | 157,182 | 1.3297
103 FORD MOTOR CO. | FORD ESCORT | 28 | 21,162 | 1.3231
104 TOYOTA | 4RUNNER | 133 | 101,254 | 1.3135
105 MAZDA | 6 | 72 | 54,829 | 1.3132
106 GENERAL MOTORS | CHEVROLET TRACKER | 54 | 41,730 | 1.2940
107 TOYOTA | RAV4 | 100 | 77,319 | 1.2933
108 GENERAL MOTORS | OLDSMOBILE BRAVADA | 11 | 8,642 | 1.2729
109 PORSCHE | BOXSTER | 10 | 7,880 | 1.2690
110 GENERAL MOTORS | GMC SAFARI VAN | 11 | 8,738 | 1.2589
111 GENERAL MOTORS | PONTIAC VIBE | 88 | 69,941 | 1.2582
112 HONDA | CIVIC | 369 | 300,485 | 1.2280
113 VOLKSWAGEN | GOLF/GTI | 41 | 34,049 | 1.2041
114 FORD MOTOR CO. | MERCURY GRAND MARQUIS | 127 | 105,615 | 1.2025
115 HONDA | ACCORD | 499 | 427,660 | 1.1668
116 GENERAL MOTORS | CHEVROLET ASTRO VAN | 38 | 32,687 | 1.1625
117 TOYOTA | PRIUS | 16 | 13,826 | 1.1572
118 NISSAN | XTERRA | 87 | 75,351 | 1.1546
119 TOYOTA | MR2 SPYDER | 6 | 5,209 | 1.1519
120 ISUZU | ASCENDER | 4 | 3,476 | 1.1507
121 VOLKSWAGEN | JETTA | 171 | 148,729 | 1.1497
122 NISSAN | PATHFINDER | 56 | 48,772 | 1.1482
123 JAGUAR | XKR | 1 | 880 | 1.1364
124 HONDA | ACURA 3.2 TL | 105 | 93,899 | 1.1182
125 GENERAL MOTORS | CHEVROLET TRAILBLAZER | 205 | 194,427 | 1.0544
126 AUDI | A6/A6 QUATTRO/S6/AVANT | 18 | 17,116 | 1.0516
127 ISUZU | AXIOM | 4 | 3,848 | 1.0395
128 MERCEDES-BENZ | 203 (C-CLASS) | 65 | 63,327 | 1.0264
129 GENERAL MOTORS | CADILLAC CTS | 69 | 68,264 | 1.0108
130 LAND ROVER | FREELANDER | 10 | 9,985 | 1.0015
131 NISSAN | INFINITI Q45 | 3 | 3,034 | 0.9888
132 MAZDA | B SERIES PICKUP | 19 | 19,342 | 0.9823
133 AUDI | TT | 6 | 6,138 | 0.9775
134 TOYOTA | LEXUS ES | 60 | 61,512 | 0.9754
135 MERCEDES-BENZ | 210 (E-CLASS) | 61 | 62,547 | 0.9753
136 NISSAN | INFINITI M45 | 6 | 6,402 | 0.9372
137 FORD MOTOR CO. | FORD EXPLORER SPORT TRAC | 58 | 62,059 | 0.9346
138 TOYOTA | LEXUS LS | 20 | 21,592 | 0.9263
139 TOYOTA | LEXUS GX | 21 | 22,932 | 0.9158
140 NISSAN | MURANO | 50 | 54,632 | 0.9152
141 BMW | 5 | 36 | 39,342 | 0.9151
142 FORD MOTOR CO. | FORD WINDSTAR VAN | 134 | 148,016 | 0.9053
143 PORSCHE | 911 | 9 | 10,027 | 0.8976
144 BMW | 3 | 90 | 100,589 | 0.8947
145 JAGUAR | X-TYPE | 27 | 30,483 | 0.8857
146 VOLVO | XC70 | 8 | 9,175 | 0.8719
147 TOYOTA | AVALON | 59 | 68,872 | 0.8567
148 GENERAL MOTORS | GMC ENVOY | 71 | 83,069 | 0.8547
149 KIA MOTORS | SEDONA VAN | 44 | 51,515 | 0.8541
150 VOLKSWAGEN | PASSAT | 89 | 105,230 | 0.8458
151 GENERAL MOTORS | OLDSMOBILE AURORA | 3 | 3,550 | 0.8451
152 AUDI | A4/A4 QUATTRO | 40 | 47,520 | 0.8418
153 GENERAL MOTORS | CHEVROLET VENTURE VAN | 80 | 96,022 | 0.8331
154 ISUZU | RODEO | 11 | 13,625 | 0.8073
155 MAZDA | MX-5 MIATA | 10 | 12,458 | 0.8027
156 HYUNDAI | SANTA FE | 79 | 98,515 | 0.8019
157 MERCEDES-BENZ | 208 (CLK-CLASS) | 25 | 31,560 | 0.7921
158 JAGUAR | VANDEN PLAS/SUPER V8 | 1 | 1,26 5 | 0.7905
159 GENERAL MOTORS | BUICK LESABRE | 97 | 124,342 | 0.7801
160 TOYOTA | SIENNA VAN | 33 | 42,688 | 0.7731
161 GENERAL MOTORS | SATURN ION | 73 | 96,382 | 0.7574
162 FORD MOTOR CO. | FORD THUNDERBIRD | 10 | 13,948 | 0.7169
163 MAZDA | TRIBUTE | 33 | 47,099 | 0.7007
164 GENERAL MOTORS | PONTIAC MONTANA VAN | 32 | 45,936 | 0.6966
165 HONDA | ELEMENT | 51 | 75,457 | 0.6759
166 HONDA | ACURA MDX | 36 | 55,826 | 0.6449
167 TOYOTA | LEXUS RX | 22 | 34,745 | 0.6332
168 GENERAL MOTORS | BUICK RENDEZVOUS | 42 | 67,239 | 0.6246
169 TOYOTA | HIGHLANDER | 77 | 128,157 | 0.6008
170 GENERAL MOTORS | OLDSMOBILE SILHOUETTE VAN | 11 | 18,330 | 0.6001
171 VOLKSWAGEN | NEW BEETLE | 35 | 58,891 | 0.5943
172 HONDA | PILOT | 71 | 123,095 | 0.5768
173 GENERAL MOTORS | SATURN VUE | 58 | 109,455 | 0.5299
174 BMW | Z4 | 12 | 24,198 | 0.4959
175 VOLVO | XC90 | 6 | 12,404 | 0.4837
176 VOLVO | V70 | 3 | 6,242 | 0.4806
177 GENERAL MOTORS | BUICK PARK AVENUE | 14 | 29,309 | 0.4777
178 SUBARU | BAJA | 7 | 14,966 | 0.4677
179 SAAB | 9-5 | 7 | 15,159 | 0.4618
180 NISSAN | INFINITI FX35 | 8 | 17,691 | 0.4522
181 BMW | MINI COOPER | 15 | 33,255 | 0.4511
182 HONDA | CR-V | 61 | 140,449 | 0.4343
183 SAAB | 9-3 | 13 | 33,653 | 0.3863
184 SUBARU | LEGACY/OUTBACK | 30 | 84,858 | 0.3535
185 VOLVO | V40 | 3 | 9,155 | 0.3277
186 SUBARU | FORESTER | 21 | 65,691 | 0.3197
187 MERCEDES-BENZ | 170 (SLK-CLASS) | 2 | 6,526 | 0.3065
188 MAZDA | MPV VAN | 10 | 33,563 | 0.2979
189 HONDA | ODYSSEY VAN | 48 | 165,197 | 0.2906
190 GENERAL MOTORS | SATURN LW | 2 | 7,251 | 0.2758
191 NISSAN | INFINITI FX45 | 2 | 7,743 | 0.2583
192 ASTON MARTIN | VANQUISH | 0 | 286 | 0.0000
193 ASTON MARTIN | VANTAGE | 0 | 399 | 0.0000
194 AUDI | ALLROAD QUATTRO | 0 | 5,256 | 0.0000
195 AUDI | RS6 | 0 | 1,436 | 0.0000
196 AUDI | S8 | 0 | 301 | 0.0000
197 BMW | Z8 | 0 | 539 | 0.0000
198 DAIMLERCHRYSLER | DODGE VIPER | 0 | 1,707 | 0.0000
199 FERRARI | 360 | 0 | 885 | 0.0000
200 FERRARI | 456 | 0 | 32 | 0.0000
201 FERRARI | 575M | 0 | 167 | 0.0000
202 FERRARI | ENZO | 0 | 102 | 0.0000
203 GENERAL MOTORS | CADILLAC FUNERAL COACH/HEARSE | 0 | 988 | 0.0000
204 GENERAL MOTORS | CADILLAC LIMOUSINE | 0 | 692 | 0.0000
205 HONDA | ACURA NSX | 0 | 176 | 0.0000
206 HONDA | INSIGHT | 0 | 1,011 | 0.0000
207 JAGUAR | XJS | 0 | 594 | 0.0000
208 LAMBORGHINI | MURCIELAGO | 0 | 75 | 0.0000
209 LOTUS | ESPRIT | 0 | 96 | 0.0000
210 MASERATI | COUPE/SPYDER | 0 | 408 | 0.0000
211 MITSUBISHI | NATIVA ¹ | 0 | 470 | 0.0000
212 QUANTUM TECH | CHEVROLET CAVALIER | 0 | 313 | 0.0000
213 ROLLS ROYCE | BENTLEY | 0 | 2 | 0.0000
214 ROLLS ROYCE | BENTLEY ARNAGE | 0 | 107 | 0.0000
215 ROLLS ROYCE | BENTLEY AZURE | 0 | 35 | 0.0000
216 ROLLS ROYCE | CONTINENTAL R | 0 | 1 | 0.0000
217 VOLKSWAGEN | EUROVAN/CAMPER | 0 | 4,662 | 0.0000
¹ This vehicle was manufactured for sale only in Puerto Rico and represents the U.S. version of Mitsubishi's Montero Sport line.

Issued on: February 18, 2005.
Stephen R. Kratzke,
Associate Administrator for Rulemaking.

[FR Doc. 05-3987 Filed 3-1-05; 8:45 am]

BILLING CODE 4910-59-P